DEPARTMENT OF HEALTH AND HUMAN SERVICES

National Institutes of Health

Center for Scientific Review; Amended Notice of Meeting

Notice is hereby given of a change in the meeting of the Biomedical Imaging Technology A Study Section, October 07, 2013, 08:00 a.m. to October 08, 2013, 05:00 p.m., Hilton Alexandria Mark Center, 5000 Seminary Road, Alexandria, VA, 22311 which was published in the Federal Registeron September 10, 2013, 78 FR 175 Pgs. 55268-55270.

The meeting will be held at the Hilton Rockville, 1750 Rockville Pike, Rockville, MD 20852. The meeting will start on December 10, 2013 at 6:00 p.m. and end December 11, 2013 at 5:00 p.m. The meeting is closed to the public.

Dated: November 1, 2013.
Anna Snouffer,
Deputy Director, Office of Federal Advisory Committee Policy.

[FR Doc. 2013-26753 Filed 11-7-13; 8:45 am]

BILLING CODE 4140-01-P